ENVIRONMENTAL PROTECTION AGENCY

40 Ch. I.

[FRL-7095-7]

RIN 2090-AA27

Project XL Site-specific Rulemaking for NASA White Sands Test Facility, Las Cruces, NM

AGENCY: Environmental Protection Agency.

ACTION: Proposed rule; request for comment.

SUMMARY: The Environmental Protection Agency (EPA or Agency) is proposing this rule to implement a pilot project under the Project XL program that would provide site-specific regulatory flexibility under the Clean Air Act (CAA), Resource Conservation and Recovery Act (RCRA), and Clean Water Act (CWA) for the National Aeronautics and Space Administration (NASA) White Sands Test Facility (WSTF) in Las Cruces, New Mexico. The principal objective of this XL project is to enable the NASA WSTF to electronically submit regulatory reports and permit information required by EPA regulations to the NMED Air Quality Bureau, Solid Waste Bureau, Hazardous Waste Bureau, Groundwater Bureau, and Surface Water Bureau in accordance with guidelines set forth in the NASA WSTF Project XL Final Project Agreement (FPA). This project would significantly reduce NASA's regulatory reporting costs and enhance the NMED's ability to analyze and manage NASA WSTF's regulatory and permit information.

DATES: Public Comments: Comments on the proposed rule must be received on or before November 30, 2001.

Public Hearing: Commentors may request a hearing by November 14, 2001. Commentors must state the basis for requesting the public hearing. If EPA determines there is sufficient reason to hold a public hearing, it will do so no later than November 30, 2001, during the last week of the public comment period. Requests for a public hearing should be submitted to the address listed below. If a public hearing is scheduled, the date, time, and location will be made available through a Federal Register Notice. If a public hearing is held, it will take place in Las Cruces, NM.

ADDRESSES: Comments: Written comments should be mailed to the Air Docket Clerk, Mail Code 6102, U.S. Environmental Protection Agency, 1200 Pennsylvania Ave., NW., Washington, D.C. 20460. Please send an original and three copies of all written comments as well as an original and three copies of any attachments, enclosures, or other documents referenced in the comments and refer to Docket Number A-2000-54. A copy should also be sent to Mr. John DuPree at Mail Code 1807, U.S. Environmental Protection Agency, 1200 Pennsylvania Avenue, N.W., Washington, D.C. 20460.

EPA will also accept comments electronically. Electronic comments should be addressed to the following internet address: dupree.john@epa.gov. Electronic comments must be submitted as an ASCII or WordPerfect version 5.1, 6.1, or 8.0 format file, and must avoid use of special characters or any form of encryption. Electronic comments will be transferred into a paper version for the official record. EPA will attempt to clarify electronic comments if there is an apparent error in transmission.

Request to speak at Hearing: Requests to speak at a hearing should be mailed to the Air Docket, Mail Code 6102, U.S. Environmental Protection Agency, 1200 Pennsylvania Ave., N.W., Washington, D.C. 20460.

Viewing Project Materials: A docket containing the proposed rule, Final Project Agreement, supporting materials, and public comments is available for public inspection and copying at the Air Docket, located at Waterside Mall, 401 M St., Washington, D.C. 20460. The Air Docket is open from 9:00 am to 4:00 pm, Monday through Friday, excluding Federal holidays. The public is encouraged to phone in advance to review docket materials. Appointments can be scheduled by phoning the Docket Office at (202) 260-7549. Refer to docket number A-2000-54. The public may copy a maximum of 100 pages from any regulatory docket at no charge. Additional copies cost 15 cents per page. Project materials for today's action are also available on the internet at http://www.epa.gov/projectxl/.

A duplicate copy of the docket is available for inspection and copying during normal business hours at U.S. EPA Region VI, 1445 Ross Ave., Dallas, Texas 75202-2733. Persons wishing to view the duplicate docket at the Dallas location are encouraged to contact Mr. David Bond or Mr. Rob Lawrence, in advance, by telephoning (214) 665-6431 or (214) 665-6580, respectively.

FOR FURTHER INFORMATION CONTACT: Mr. John DuPree; Mail Code 1807; U.S. Environmental Protection Agency; Office of Policy, Economics, and Innovation; 1200 Pennsylvania Avenue, N.W.; Washington, D.C. 20460. Mr. DuPree's telephone number is (202) 260-4468 and e-mail address is dupree.john@epa.gov. Further information on today's action may also be obtained on the world wide web at http://www.epa.gov/projectxl/.

SUPPLEMENTARY INFORMATION: This project assesses the appropriateness of submitting regulatory and compliance information electronically instead of paper reports.

The duration of this project is five years. 016

EPA is soliciting comments on this rulemaking. EPA will publish responses to comments in the Federal Register and on the Project XL web-site http://www.epa.gov/projectxl. The XL project will enter the implementation phase on the effective date of a final rule. Any comments received will be made available on the Project XL web site: http://www.epa.gov/projectxl.

The terms of the overall XL project are contained in a Final Project Agreement (FPA). The FPA is available for review at the Air Docket in Washington, D.C.; EPA Region VI Library in Dallas, TX; and at the Las Cruces Public Library in Las Cruces, NM.

Outline of Today's Proposal

The information presented in this preamble is organized as follows:

I. Authority

II. Overview of Project XL

III. Overview of the NASA WSTF XL Project

A. To Which Facilities Would the Proposed Rule Apply?

B. What Problems would the NASA WSTF XL Project Address?

C. What Solution is Proposed by the NASA WSTF Project?

D. What Regulatory Changes Will Be Necessary to Implement this Project?

E. How Have Various Stakeholders Been Involved in this Project?

F. How Would this Project Result in Cost Savings and Paperwork Reduction?

G. What Are the Terms of the NASA WSTF XL Project and How Would They Be Enforced?

H. Does EPA Propose to Require Revision of NMED's Authorized, Delegated, or Approved Programs?

IV. Additional Information

A. How Does this Rule Comply with Executive Order 12866?

B. Is a Regulatory Flexibility Analysis Required?

C. Does this Trigger the Requirements of the Unfunded Mandates Reform Act?

D. How Does this Rule Comply with Executive Order 13045: Protection of Children from Environmental Health Risks and Safety Risks?

E. How Does this Rule Comply with Executive Order 13132: Federalism?

F. How Does this Rule Comply with Executive Order 13175: Consultation and Coordination with Indian Tribal Governments?

G. How Does this Rule Comply with the National Technology Transfer and Advancement Act?

H. How Does this Rule Comply with Executive Order 13211: Energy Effects?

I. Requirements of Today's Rule

J. How Does this Rule Comply with the Paperwork Reduction Act?

I. Authority

EPA is publishing this proposed regulation under the authority of sections 33 U.S.C. 2701 to 2761; 42 U.S.C. 300f to 300J-26; 42 U.S.C. 6901 to 6992k.

II. Overview of Project XL

The Final Project Agreement (FPA) sets forth the intentions of EPA, NMED, and the NASA WSTF (hereinafter, collectively, Project Signatories) with regard to a project developed under Project XL, an EPA initiative to allow regulated entities to achieve better environmental results with limited regulatory flexibility. The proposed regulation, along with the FPA (also available in today's Federal Register), would facilitate implementation of the project. Project XL“eXcellence and Leadership”—was announced on March 16, 1995, as a central part of the National Performance Review and the Agency's effort to reinvent environmental protection. See 60 FR 27282 (May 23, 1995). Project XL provides a limited number of private and public regulated entities an opportunity to develop their own pilot projects to request regulatory flexibility that will result in environmental protection that is superior to what would be achieved through compliance with current and reasonably-anticipated future regulations. These efforts are crucial to EPA's ability to test new strategies that reduce regulatory burden and promote economic growth while achieving better environmental and public health protection. EPA intends to evaluate the results of this and other Project XL projects to determine which specific elements of the projects, if any, should be more broadly applied to other regulated entities for the benefit of both the economy and the environment.

Under Project XL, participants in four categories—facilities, industry sectors, governmental agencies, and communities—are offered the flexibility to develop common sense, cost-effective strategies that will replace or modify specific regulatory requirements, on the condition that they produce and demonstrate superior environmental performance.

The XL program is intended to enable EPA to experiment with potentially promising regulatory approaches, both to assess whether they provide benefits at the specific facility affected, and whether they should be considered for wider application. Such pilot projects allow EPA to proceed more quickly than would be possible when undertaking changes on a nationwide basis. As part of this experimentation, EPA may try approaches or legal interpretations that depart from, or are even inconsistent with, longstanding Agency practice, so long as those interpretations are within the broad range of discretion enjoyed by the Agency in interpreting the statutes that it implements. EPA may also modify rules, on a site-specific basis, that represent one of several possible policy approaches within a more general statutory directive, so long as the alternative being used is permissible under the statute.

Adoption of such alternative approaches or interpretations in the context of a given XL project does not, however, signal EPA's willingness to adopt that interpretation as a general matter, or even in the context of other XL projects. It would be inconsistent with the forward-looking nature of these pilot projects to adopt such innovative approaches prematurely on a widespread basis without first determining whether they are viable in practice and successful in the particular projects that embody them. Furthermore, as EPA indicated in announcing the XL program, EPA expects to adopt only a limited number of carefully selected projects. These pilot projects are not intended to be a means for piecemeal revision of entire programs. Depending on the results in these projects, EPA may or may not be willing to consider adopting the alternative interpretation again, either generally or for other specific facilities.

EPA believes that adopting alternative policy approaches and interpretations, on a limited, site-specific basis and in connection with a carefully selected pilot project, is consistent with the expectations of Congress about EPA's role in implementing the environmental statutes (provided that the Agency acts within the discretion allowed by the statute). Congress' recognition that there is a need for experimentation and research, as well as ongoing re-evaluation of environmental programs, is reflected in a variety of statutory provisions.

XL Criteria

To participate in Project XL, applicants must develop alternative environmental performance objectives pursuant to eight criteria: superior environmental performance; cost savings and paperwork reduction; local stakeholder involvement and support; test of an innovative strategy; transferability; feasibility; identification of monitoring, reporting and evaluation methods; and avoidance of shifting risk burden. The XL projects must have the full support of the affected Federal, State, local and tribal agencies to be selected.

For more information about the XL criteria, readers should refer to the two descriptive documents published in the Federal Register (60 FR 27282, May 23, 1995 and 62 FR 19872, April 23, 1997), and the December 1, 1995 “Principles for Development of Project XL Final Project Agreements” document. A copy of this publication is available in Docket #A-2000-54. For explanation of how the NASA WSTF XL project addresses the XL criteria, readers should refer to the Final Project Agreement available from the EPA Air docket A-2000-54, or the Project XL web page (http://www.epa.gov/projectxl).

XL Program Phases

The Project XL program has four basic developmental phases: the initial pre-proposal phase in which the project sponsor identifies an innovative concept that it would like EPA to consider as an XL pilot project; the second phase where the project sponsor works with EPA and interested stakeholders in developing an XL proposal; the third phase in which EPA, local regulatory agencies, and other interested stakeholders review the XL proposal; and the fourth phase where the project sponsor works with EPA, local regulatory agencies, and interested stakeholders in developing a Final Project Agreement and implementation mechanism. After the Final Project Agreement has been signed by all designated parties and promulgation of the final rule (or other legal mechanism) for the XL pilot, the XL pilot project proceeds to implementation and evaluation.

Final Project Agreement

The Final Project Agreement (FPA) is a written voluntary agreement between the project sponsor and regulatory agencies. The FPA contains a detailed description of the proposed pilot project. It addresses the eight Project XL criteria, and the expectation of the Agency that the XL project will meet those criteria. The FPA identifies performance goals and indicators that the project is yielding the expected environmental benefits, and specifically addresses the manner in which the project is expected to produce superior environmental benefits. The FPA also discusses the administration of the FPA, including dispute resolution and termination. The FPA for this XL project is available for review in the docket for today's action, and also is available on the world wide web at http://www.epa.gov/projectxl/.

III. Overview of the NASA WSTF XL Project

Today's proposed rule would facilitate implementation of Phases 1 and 2 of the NASA WSTF FPA (the document that embodies EPA's intent to implement this project) that has been developed by EPA, the New Mexico Environmental Department (NMED), NASA WSTF and other stakeholders. In order for New Mexico to implement this project, it may be necessary for NMED to make conforming changes to its regulations or State-issued permits.

In this XL Project, the NASA WSTF proposes to electronically submit regulatory reports and permit information to the NMED in lieu of paper reports. This reporting process will be implemented in a six-phase process that will first utilize data submitted on a CD-ROM before transitioning to a system that will utilize the internet to transmit information to NMED. Today's rule sets forth provisions to facilitate implementation of phases 1 and 2 of this XL project. All six phases are described in Appendix A of the NASA WSTF FPA and in the Table below.

Phase | Action | Affected NMED Bureau
Phase 1 | NASA WSTF shall submit the reports and permit information listed in Table A on CD-ROM to the affected NMED Bureau with an electronic certification statement for compliance purposes | Hazardous Waste, Groundwater, Surface Water.
Phase 2 | NASA WSTF shall submit the reports and permit information listed in Table A on CD-ROM to the affected NMED Bureau with an electronic certification statement for compliance purposes | Hazardous Waste, Groundwater, Surface Water.
| NASA WSTF shall post the compliance reports and permit information listed in Table A to their web site for general information purposes | Hazardous Waste, Groundwater, Surface Water.
Phase 3 | NASA WSTF shall post the reports and permit information listed in Table A to the NASA web site for compliance purposes | Hazardous Waste, Groundwater, Surface Water.
| Eliminate CD ROM submittals for the reports listed in Table A | Hazardous Waste, Groundwater, Surface Water.
Phase 4 | Post reports and permit information listed in Table A to the NASA Website for compliance purposes | Hazardous Waste, Groundwater, Solid Waste.
| Submit reports and permit information listed in Table B on CD-ROM to the NMED Air Quality and Surface Water Bureaus for compliance purposes | Air Quality, Solid Waste Bureaus.
Phase 5 | Post reports and permit information listed in Table A to the NASA Website for compliance purposes | Hazardous Waste, Groundwater, Solid Waste.
| Submit reports and permit information listed in Table B on CD-ROM to the NMED Air Quality and Surface Water Bureaus for compliance purposes | Air Quality, Solid Waste Bureaus.
| Post reports and permit information listed in Table B to the NASA Web site for general information purposes | Air Quality, Solid Waste Bureaus.
Phase 6 | Eliminate CD-ROM submittals for the reports listed in Table B | Air Quality, Solid Waste Bureaus.
| Post reports and permit information listed in Tables A and B to the NASA Web site for compliance with EPA and NMED reporting requirements | Air Quality, Solid Waste, Groundwater, Solid Waste, Hazardous Waste.

Public Key Infrastructure (PKI)-Based Digital Signatures

In today's rule, EPA proposes to require the use of PKI based digital signatures to sign certifications of data submitted by NASA WSTF to NMED as part of this XL project. The PKI-based digital signatures utilized in today's proposed rule are the product of two concepts:

1. “Asymmetric” cryptography, and

2. a framework for “certifying” the identity of a digital signature-holder, provided by PKI.

“Asymmetric” cryptography is based on a mathematical relationship that exists between certain pairs of numbers, for example number A and number B, such that

1. if A is used to encrypt a message, B and only B can decipher it, and

2. if B deciphers the message, it can only have been encrypted with A.

For purposes of a digital signature, then, A and B are uniquely assigned to individual X. One of the numbers, say A, submitter X shares with no one. This is X's “private key”. The other, B, is X's “public key”, and X shares B with anyone to whom X wishes to send a message—X may even publish B together with information that identifies him/her as X.

X then signs an electronic document as follows: (1) X uses a standard formula or algorithm to produce a number uniquely related to the content of the electronic document; this is referred to as the “message digest” or “hash” of the document. (2) X uses A, the private key, to encrypt this hash; this encrypted hash is X's digital signature, and it is unique both to X and to the particular message it signs. (3) X attaches this digital signature to X's message (which is otherwise not encrypted), and sends it.

When Y gets X's message, Y validates X's signature by: (1) deriving the hash of the message, using the same standard algorithm that X used; (2) deciphering X's digital signature, using X's public key, B; and (3) comparing the hash Y derived (in step 1) with the deciphered signature. The two numbers—the derived hash and the deciphered signature—should agree. If (and only if) they do, then Y knows both that the signature was produced using A (which belongs to X), and that the message has not changed since X signed it.

Because the digital signature is specific to the particular document, and is unique in each case, to say that X is a “signature-holder” in this context is to refer to A and B, the private/public key-pair. The A/B key-pair does belong to X and plays the same role in each of the many digital signatures X may create through the process described above. Accordingly, it is this key-pair—rather than the individual signatures they are used to create—that is associated with the process of certifying a signature-holder's identity that is provided by PKI.

PKI is a way of reliably establishing and maintaining the identity of the individual associated with a given key-pair used in producing digital signatures. This protocol involves the issuance of a “PKI certificate” by a “trusted” “certificate authority” (CA). The CA is “trusted” in the sense that it operates in conformance with an appropriate certificate policy, and has demonstrated this conformance through its operations across a wide range of electronic commerce applications.

Issuing a certificate for individual X typically involves the following steps: (1) X applies to the CA for a certificate; (2) the CA requests various pieces of personal information from X, and/or notarized verifications of X's personal information, and/or X to appear in person, to provide the CA with the basis for “proving” X's identity; (3) the CA provides X with a way to generate X's unique key pair; (4) the CA conducts the “identity proofing” process—matching what X has provided against information about X in various commercial databases, official documents, etc.; (5) when the “identify proofing” is successfully completed, the CA creates a “certificate” for X that incorporates X's public key, along with various pieces of identifying information about X; and (6) the CA digitally signs the certificate to certify its authenticity, and makes it available to users through directory services.

Digital Signature Process

In this project, the digital certificate used to create a digital signature would be issued to a “Designated Representative” at the NASA WSTF by an EPA authorized Certificate Authority (CA). For the purposes of this XL project EPA has contracted with a third party to serve as the CA, to issue digital certificates to individuals at the NASA WSTF who are authorized to submit signed, electronic reports to NMED. To receive a digital certificate, a Designated Representative would be required to log-on to the CA website and provide the “entrance” number provided in their instruction letter from EPA and the NMED. The submitter provides the requested personal information that the CA needs to perform identity-proofing (name, address, Social Security Number, driver's license number, credit card number, etc.). This information will not be given to EPA or NMED. During this registration process, the issuer of the certificates will also generate the public and private cryptographic keys that are associated with the digital certificate that the CA will issue. After the CA has completed identity-proofing, the submitter will receive a letter from the CA with instructions on how to download the certificate to their local computer via a web connection. This web session will install the certificate in the web browser so it can be used to create digital signatures.

The electronic signing process will use software issued by an EPA-approved third party to affix a digital signature to the electronic document being submitted via CD ROM. The document is displayed to the user on the computer screen. When the submitter activates the signing block of the document, a “signing ceremony” is initiated. The user is advised that he/she is creating a digital signature through the use of their private key. After the user provides access to their private key by providing a password, a hash function is used to obtain a condensed or hash version of the document being submitted, called a message digest. The message digest and private key are then input into the approved software's digital signature algorithm, to generate the digital signature. Any subsequent changes to the document would render the original digital signature invalid.

Electronic Signature Agreement

Today's proposed rule would require NASA WSTF and NMED to enter into an Electronic Signature Agreement to properly use and protect the validity of the digital signatures used in this XL project. Today's rule proposes that the terms in this agreement include, a commitment to: (1) protect the private key from unauthorized use by anyone other than the Designated Representative; (2) be held as legally bound, obligated, or responsible by use of the Designated Representative's private key to create a digital signature as by handwritten signature; (3) under no circumstances, delegate the use of the private key or make it available for use by anyone else; (4) report to NMED within twenty-four hours of discovery any evidence of the loss, theft, or other compromise of any component of the digital signature; (5) immediately notify EPA and NMED in writing if the Designated Representative loses the authority to sign reports submitted to NMED as a representative of NASA WSTF; and (6) secure any assistance of third parties that is needed to protect a signature from unauthorized use. EPA believes that this agreement is important to ensure that the holder of the private key understands how to properly use and protect the key. It is also important to ensure that the signature holder understands the legal effect of using the private key to affix the digital signature to an electronic document. To achieve these goals, EPA believes that the signature agreement should require that the signature holder agree to: (1) protect the private key from unauthorized use by anyone other than the Designated Representative; (2) be held as legally bound, obligated, or responsible by use of the Designated Representative's private key to create a digital signature as by handwritten signature; (3) under no circumstances, delegate the use of the private key or make it available for use by anyone else; (4) report to NMED within twenty-four hours of discovery any evidence of the loss, theft, or other compromise of any component of the digital signature; (5) immediately notify EPA and NMED in writing if the Designated Representative loses the authority to sign reports submitted to NMED as a representative of NASA WSTF; and (6) secure any assistance of third parties that is needed to protect a signature from unauthorized use.

CD-ROM Submission Procedures

During the first, second, fourth and fifth phases of this project, NASA WSTF would mail compliance reports and permit information on Compact Disc-Read Only Memory (CD-ROM) to the appropriate NMED bureau. The CD-ROMs for this project would be prepared at the NASA WSTF. NASA WSTF's preparation process would include draft creation by the originator, internal review by NASA WSTF's contractor Environmental Department personnel, and final editing prior to NASA WSTF concurrence, document signature, and preparation of the CD-ROMs. After internal review and final edits are completed, the finalized document and certification statement would be electronically submitted to NASA management for signatory review. If NASA management requires changes, the document would be returned to the originator for correction. When the document is approved by the appropriate NASA management, that individual applies a digital signature using standard Public Key Infrastructure (PKI) software and digital certificates provided by the EPA.

After the document is digitally signed, it would be submitted to the document management system. The document management system copies the electronic deliverable to CD-ROMs for submission to the regulatory agencies. The CD-ROM that contains the Project XL Final Project Agreement certification statement listed in section 7 of today's rule would then be submitted to the NMED. This certification statement would be contained in each of the reports listed in Table A of today's proposed rule that would be forwarded to NMED by NASA WSTF on a CD-ROM. In addition, the document management system would prepare a duplicate copy of all submittals and place the electronic documents in the NASA on-site document archival system for secure storage and future access. The following flow chart provides the electronic deliverable preparation steps.

BILLING CODE 6560-50-P

BILLING CODE 6560-50-C

Certification Statement

Each report listed in Table A of today's proposed rule forwarded to NMED as part of this XL project would include a certification statement created by the NASA WSTF Designated Representative as specified in section 7 of today's rule. The NASA WSTF Designated Representative would be a NASA official legally responsible for the accuracy and integrity of the regulatory reports and permit information submitted to NMED.

Recordkeeping Requirements

Today's rule proposes standards to provide for electronic recordkeeping of documents submitted by NASA WSTF to NMED as part of this XL project. In lieu of paper recordkeeping requirements, NASA WSTF would be required to maintain electronic records of the reports included in Table A of today's rule for a time period no shorter than what is currently required under existing NMED and EPA regulations. The point of today's proposed rule requirements in section 8 is to ensure that the authenticity and integrity of the electronic documents submitted to NMED by NASA WSTF as part of this XL project, are preserved as they are created, submitted and/or maintained electronically, so that they can provide strong evidence of what was intended by the individuals who created and or signed them.

A. To Which Facilities Would the Proposed Rule Apply?

The proposed rule would apply only to the NASA White Sands Test Facility in Las Cruces, NM and NMED bureaus of Solid Waste, Hazardous Waste, Air Quality, Surface Water, and Ground Water. Further, the regulatory modifications being proposed would only affect the reporting and recordkeeping requirements for the reports listed in Table A.

B. What Problems Would the NASA WSTF XL Project Address?

The NASA XL project proposes to implement an electronic document submission and recordkeeping system that will reduce the cost and time necessary to submit selected regulatory reports and permit information to NMED as required by EPA regulations. Implementation of this project will reduce the cost and time associated with the reporting of regulatory reports and permit information currently required by EPA and NMED.

C. What Solution Is Proposed by the NASA WSTF Project?

The NASA WSTF proposes to implement an electronic regulatory reporting system. NASA proposes that the extensive paper reporting deliverable requirements of multiple Bureaus of NMED can be simplified and streamlined through use of a paperless regulatory reporting system that allows data to be reported electronically. The system will ultimately provide regulatory agencies with real-time desktop access to site-specific environmental compliance information and reduce needed resources including document preparation time, white paper usage, and triplicate reproduction.

D. What Regulatory Changes Will Be Necessary To Implement This Project?

To implement this project, the Agency is proposing today a site-specific rule that would authorize NMED to allow the NASA WSTF to electronically submit the regulatory reports and permit information included in Table A of today's proposed rule to the NMED bureaus.

This XL project consists of six phases. After completion of the second phase, EPA intends to draft a site-specific rule to enable NASA WSTF to utilize an internet-based electronic reporting system to be described in a subsequent rule.

E. How Have Various Stakeholders Been Involved in This Project?

NASA established an appropriate stakeholder group to assist in developing the Final Project Agreement for this XL pilot project and to evaluate NASA WSTF's plan and progress in implementing the project. NASA solicited input on this project from a wide range of stakeholders including local and national environmental groups, neighborhood associations, and industry trade associations. Stakeholders were notified of this project by direct mail, telephone, and notification in the local press.

NASA WSTF solicited public involvement in this project by holding public meetings while negotiating the Final Project Agreement for this project with EPA and NMED. The NMED supports this project and is a Project Signatory to the Final Project Agreement.

NASA has kept an open dialogue with interested stakeholders since the project's inception and will continue to involve any interested stakeholders in the project's development. In addition, EPA and NASA will make all project-related final documents and events publicly accessible through announcements, EPA's web site, and public dockets.

F. How Would This Project Result in Cost Savings and Paperwork Reduction?

In this XL project, the NASA White Sands Test Facility proposes to reduce its EPA and NMED reporting and recordkeeping costs through use of an electronic document reporting and recordkeeping system. NASA would provide NMED and EPA with access to NASA WSTF's regulatory information by electronically submitting regulatory reports and permit information to a NASA controlled web site and forwarding compliance data on CD-ROM's in lieu of submitting paper reports to each NMED Bureau. NASA's use of electronic reporting would greatly reduce the number of reports submitted on paper. Additionally, use of the proposed electronic reporting system would reduce the manpower required to compile and disseminate compliance information.

G. What Are the Terms of the NASA WSTF XL Project and How Would They Be Enforced?

This project would be in effect for five years from the date the final rule takes effect. Any Project Signatory may terminate its participation in this project at any time in accordance with the procedures set forth in the FPA.

Upon completion of the project term, EPA and NMED, have committed to evaluate the project. If the project results indicate that it was a success, EPA will consider transferring the regulatory flexibility (or some similar flexibility) to the national RCRA, CAA, or CWA program (through rulemaking procedures). Should the project results indicate that the project was not successful or if the project is terminated early, EPA may promulgate a rule to remove the site-specific regulatory flexibility.

H. Does EPA Propose to Require Revision of NMED's Authorized, Delegated, or Approved Programs?

EPA is not proposing to revise the affected State authorized, delegated, or approved programs. Today's rule would affect only certain reports submitted by a single facility. Electronic reporting and record keeping would also be permitted only in accordance with the specific requirements articulated in today's proposal. EPA solicits comments on these specific requirements. Under these circumstances, EPA does not believe that program revision is necessary. Nonetheless, EPA solicits comment on whether EPA should require New Mexico to seek revision of the affected State programs.

IV. Additional Information

A. How Does This Rule Comply With Executive Order 12866?

Under Executive Order 12866 (58 FR 51735, October 4, 1993) the Agency must determine whether the regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety in State, local, or tribal governments or communities;

(2) Create a serious inconsistency or otherwise interfere with an action taken or planned by another agency;

(3) Materially alter the budgetary impact of entitlement, grants, user fees, or loan programs of the rights and obligations of recipients thereof; or

(4) Raise novel legal or policy issues arising out of legal mandates, the President's priorities, or the principles set forth in the Executive Order.

Because this rule affects only one facility, it is not a rule of general applicability and therefore not subject to OMB review and Executive Order 12866. In addition, OMB has agreed that review of site specific rules under Project XL is not necessary. Additionally, the annualized cost of this final rule would be significantly less than $100 million and would not meet any of the other criteria specified in the Executive Order, therefore, it has been determined that this rule is not a “significant regulatory action” under the terms of Executive Order 12866, and is therefore not subject to OMB review.

Executive Order 12866 also encourages agencies to provide a meaningful public comment period, and suggests that in most cases the comment period should be 60 days. However, in consideration of the very limited scope of today's proposed rulemaking and the public involvement in the development of the proposed Final Project Agreement, EPA considers 30 days to be sufficient in providing a meaningful public comment period for today's action.

B. Is a Regulatory Flexibility Analysis Required?

The Regulatory Flexibility Act (RFA), 5 U.S.C. 601, et seq. generally requires an agency to conduct a regulatory flexibility analysis of any rule subject to notice and comment rulemaking requirements unless the agency certifies that the rule will not have a significant economic impact on a substantial number of small entities. Small entities include small businesses, small not-for-profit enterprises, and small governmental jurisdictions. This rule would not have a significant impact on a substantial number of small entities because it would only affect the NASA White Sands Test Facility, in Las Cruces, NM, and it is not a small entity. Therefore, EPA certifies that this action will not have a significant economic impact on a substantial number of small entities.

C. Does this Project Trigger the Requirements of the Unfunded Mandates Reform Act?

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation of why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

As noted above, this rule would apply only to one facility in Las Cruces, New Mexico. EPA has determined that this rule contains no regulatory requirements that might significantly or uniquely affect small governments. EPA has also determined that this rule does not contain a Federal mandate that may result in expenditures of $100 million or more for State, local, and tribal governments, in the aggregate, or the private sector in any one year. Thus, today's rule is not subject to the requirements of sections 202 and 205 of the UMRA.

D. How Does This Rule Comply With Executive Order 13045: Protection of Children From Environmental Health Risks and Safety Risk?

The Executive Order 13045, “Protection of Children from Environmental Health Risks and Safety Risks” (62 FR 19885, April 23, 1997) applies to any rule that: (1) Is determined to be “economically significant,” as defined under Executive Order 12866; and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it is not an economically significant rule, as defined by Executive Order 12866, and because it does not involve decisions based on environmental health or safety risks. This rule sets forth electronic reporting procedures for the submission of environmental compliance data.

E. How Does This Rule Comply With Executive Order 13132: Federalism?

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It would not have substantial direct effects on the States, on the relationship between the national government and the States, or on the distribution of power and responsibilities among the various levels of government, as specified in Executive Order 13132. Today's proposed rule would implement a project developed under an entirely voluntary federal program; thus, Executive Order 13132 does not apply to this rule.

In the spirit of Executive Order 13132, and consistent with EPA policy to promote communications between EPA and State and local governments, EPA specifically solicited comments on the proposed rule from State and local officials.

F. How Does This Rule Comply With Executive Order 13175: Consultation and Coordination With Indian Tribal Government?

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This proposed rule would not have tribal implications. It would not have substantial direct effects on tribal governments, on the relationship between the Federal government and Indian tribes, or on the distribution of power and responsibilities between the Federal government and Indian tribes, as specified in Executive Order 13175. Today's proposed rule, would affect a single, non-tribal facility that is not located on tribal lands and this rule would have no impact on tribal law or culture; thus, Executive Order 13175 does not apply to this rule.

In the spirit of Executive Order 13175, and consistent with EPA policy to promote communications between EPA and tribal governments, EPA specifically solicits additional comment on this proposed rule from tribal officials.

G. How Does This Rule Comply With the National Technology Transfer and Advancement Act?

Section 12(d) of the National Technology Transfer and Advancement Act of 1995 (“NTTAA”), Public Law 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standard.

Today's proposed rule would allow NASA WSTF to mail regulatory reports and permit information on a CD-ROM diskette to NMED using specified technical standards. EPA proposes to require that NMED require NASA WSTF to use Portable Data Format (PDF), Hypertext Markup Language (HTML) and eXtensible Mark-Up Language (XML) format standards in these CD-ROM submissions. Accordingly, this rule would comply with the requirements of NTTAA.

H. How Does This Rule Comply With Executive Order 13211: Energy Effects?

This rule is not subject to Executive Order 13211, “Actions Concerning Regulations That Significantly Affect Energy Supply, Distribution, or Use” (66 FR 28355 (May 22, 2001)) because it is not a significant regulatory action under Executive Order 12866.

I. Requirements for Today's Rule

For the reasons set forth above and under the conditions described below, EPA authorizes the New Mexico Environment Department (NMED) to allow the National Aeronautics and Space Administration (NASA) White Sands Test Facility (WTSF) to submit and retain in electronic form any of the documents listed in Table A.

J. How Does This Rule Comply With the Paperwork Reduction Act?

Information collection requests will not pertain to this rule, which pertains to a site specific pilot program that has only one respondent.

1. Definitions. For purposes of this rule, the terms listed below are defined as follows:

Certificate Authority (CA) means an entity which EPA has authorized to serve as the trusted third party to oversee the certificate enrollment, issuance, validation, and revocation processes. The CA also conducts identity proofing inquiries and issues digital certificates that accurately convey the subscriber's identity information and public keys.

Designated Representative means an individual who is authorized to sign reports for the NASA WSTF with respect to the submission of any documents listed in Table A.

Digital Signature means a number uniquely calculated by the application of an encryption algorithm, using a value supplied by an individual's private key, to a message digest for the document being signed.

Electronic record-keeping system means any set of apparatus, procedures, software, records or documentation used to retain exact electronic copies of electronic records and electronic documents.

Electronic signature means any electronic record that is incorporated into (or appended to) an electronic document for the purpose of expressing the same meaning and intention that an individual's handwritten signature would express if affixed in the same relation to the document's content presented on paper.

Private/public key pair means a pair of numbers mathematically related to each other and to a specified encryption algorithm such that: (i) the private key cannot be derived from the public key, and (ii) using the encryption algorithm, the public key will only decrypt messages encrypted with the private key and it is the only key that will decrypt these messages.

2. Authentication. A Designated Representative must use a digital certificate, issued by a third party authorized by EPA, and EPA-approved electronic signature software to affix a digital signature to any electronic version of a document in Table A.

3. Electronic Signature Agreement. NMED shall require each Designated Representative to sign, in handwriting with ink on paper, the Electronic Signature Agreement in Appendix A. By signing the Electronic Signature Agreement, a Designated Representative must, at a minimum, agree to:

(a) protect the private key from unauthorized use by anyone other than the Designated Representative;

(b) be held as legally bound, obligated, or responsible by use of the Designated Representative's private key to create a digital signature as by handwritten signature;

(c) under no circumstances, delegate the use of the private key or make it available for use by anyone else;

(d) report to NMED within twenty-four hours of discovery any evidence of the loss, theft, or other compromise of any component of the digital signature;

(e) immediately notify EPA and NMED in writing if the Designated Representative loses the authority to sign reports submitted to NMED as a representative of NASA WSTF; and

(f) secure any assistance of third parties that is needed to protect a signature from unauthorized use.

4. General Submission Requirements. In lieu of a paper document, NMED may accept from NASA WSTF an electronic version of any document listed in Table A, provided the electronic document bears a valid digital signature, as provided in sections 2 and 3 of this rule, to the same extent that a paper submission for which the document substitutes would bear a handwritten signature. To be valid a digital signature must be created by a Designated Representative and with a private key device issued to that person.

5. CD-ROM Submission Procedures. Electronic versions of documents listed in Table A may only be submitted by certified mail to the appropriate NMED bureau in Portable Data Format (PDF), Hypertext Markup Language (HTML) or eXtensible Markup Language format on a read-only CD-ROM disk. To be acceptable, each submission must include a digital signature, as provided in sections 2, 3, and 4 of this rule, and a certification statement, as provided in section 7 of this rule.

6. Frequency. Any electronic documents submitted must be submitted at the same time and with the same frequency prescribed under applicable NMED and EPA regulations for their paper equivalents.

7. Compliance Certification. NMED must require that, as part of any electronic document that it receives from NASA WSTF, a Designated Representative provides a digitally-signed electronic compliance certification that includes at least the following:

(a) the name of the regulatory document being submitted;

(b) date of signature;

(c) name and mailing address of the NMED bureau to which the document is being sent; and

(d) a digital signature of the Designated Representative who attests to a statement that reads as follows:

“I am authorized to submit the electronic document identified above on behalf of the NASA White Sands Test Facility. I certify under penalty of law that I have personally examined, and am familiar with, the statements and information submitted in this electronic document and all of its attachments. Based on my inquiry of those individuals with primary responsibility for obtaining the information, I certify that the statements and information contained in this electronic document and its attachments are, to the best of my knowledge and belief, true, accurate, and complete. I am aware that there are significant penalties for submitting false statements and information or omitting required statements and information, including the possibility of fine or imprisonment.

I recognize that NMED and EPA will rely on this electronic document in lieu of an equivalent paper document, and that this document and the information it contains will be used to determine my compliance with federal and State law.

In addition, I certify that I am the individual to whom the digital certificate used in signing this document has been issued and that I have at all times complied with the terms under which this certificate was issued, including my obligation to protect my private key from use by anyone other than myself and to report any compromise of any component of my digital signature.”

8. Electronic Record-keeping. Any electronic version of a document listed in Table A must be retained in electronic format by both NASA WSTF and NMED for as long as a corresponding paper document must be stored under applicable State or federal law. NMED must require that:

(a) NASA make electronic copies of electronic documents available on an individual, collective, or standing basis to NMED upon written request. These electronic documents must be promptly transmitted, mailed, or available for inspection as NMED requests.

(b) NASA employ a method of electronic record retention that:

(1) Generates and maintains accurate and complete electronic documents in a form that may not be altered without detection;

(2) produces accurate and complete copies of any electronic document and renders these copies readily available, in both human readable and electronic form, for on-site inspection and off site review, for the entirety of the required period of record retention;

(3) ensures that any electronic record or electronic document bearing an electronic signature contain the name of the signatory and the date and time of signature;

(4) prevents an electronic signatory and the date and time of signature;

(5) ensures that record changes do not obscure previously recorded information and that audit trail documentation is retained for at least as long as the electronic document;

(6) ensures that electronic documents are searchable and retrievable for reference and secondary uses, including inspections, audits, and legal proceedings; and

(7) archives records in an electronic form which preserves the context, meta data, and audit trail.

Dated: October 24, 2001.
Christine Todd Whitman,
Administrator.

Table A.—Covered Documents
State permit | Report name
Post Closure Care Permit NM88000194-2 | Application for renewal submittal.
Post Closure Care Permit NM88000194-2 | Duty to provide requested information.
Post Closure Care Permit NM88000194-2 | Revision/Modification Notification Report.
Post Closure Care Permit NM88000194-2 | Non compliance report.
Post Closure Care Permit NM88000194-2 | Notification of Emergency Coordinators list change.
Post Closure Care Permit NM88000194-2 | Annual compliance monitoring report.
Post Closure Care Permit NM88000194-2 | Annual potentiometric flow net report.
Post Closure Care Permit NM88000194-2 | Incident reports.
Post Closure Care Permit NM88000194-2 | Request for modified post closure care period.
Post Closure Care Permit NM88000194-2 | Completion of post closure care requirements submittal.
Post Closure Care Permit NM88000194-2 | Appendix IX analysis new defects notification.
Post Closure Care Permit NM88000194-2 | Annual effectiveness/conclusions report.
Post Closure Care Permit NM88000194-2 | Well Replacement notification.
Post Closure Care Permit NM88000194-2 | Modification of groundwater monitoring plan submittal.
Landfill Post Closure Care Plan | Plan revision submittal.
Landfill Post Closure Care Plan | Methane and groundwater.
Landfill Post Closure Care Plan | Inspections and maintenance reports.
Discharge Plan DP-392 | Annual Wastewater flow volumes submittal.
Discharge Plan DP-392 | Spill contingency notification.
Discharge Plan DP-392 | Contingency Plan notification.
Discharge Plan DP-392 | Duty to provide requested information.
Discharge Plan DP-392 | Modification notifications.
Discharge Plan DP-392 | Right to appeal petition.
Discharge Plan DP-392 | Transfer of ownership notification.
Discharge Plan DP-392 | Application for renewal submittal.
Discharge Plan DP-392 | Internal written recordkeeping.
Discharge Plan DP-584 | Semi-annual Monitoring Reports Submittal.
Discharge Plan DP-584 | Semi-annual wastewater discharge volumes report submittal.
Discharge Plan DP-584 | Closure sampling results submittal.
Discharge Plan DP-584 | Internal written recordkeeping.
Discharge Plan DP-584 | Duty to provide requested information.
Discharge Plan DP-584 | Spill contingency notification.
Discharge Plan DP-584 | Modification notifications.
Discharge Plan DP-584 | Right to appeal petition.
Discharge Plan DP-584 | Transfer of ownership notification.
Discharge Plan DP-584 | Application for renewal submittal.
Discharge Plan DP-697 | Leak contingency notification and reporting.
Discharge Plan DP-697 | Mitigation summary report submittal.
Discharge Plan DP-697 | Quarterly monitoring reports submittal.
Discharge Plan DP-697 | Internal written recordlkeeping.
Discharge Plan DP-697 | Duty to provide requested information.
Discharge Plan DP-697 | Modification notifications.
Discharge Plan DP-697 | Right to appeal petition.
Discharge Plan DP-697 | Transfer of ownership notification.
Discharge Plan DP-697 | Application for renewal submittal.
Discharge Plan DP-1170 | Leak contingency notification and reporting.
Discharge Plan DP-1170 | Semi annual monitoring reports submittal.
Discharge Plan DP-1170 | Internal written recordkeeping.
Discharge Plan DP-1170 | Duty to provide requested information.
Discharge Plan DP-1170 | Modification notifications.
Discharge Plan DP-1170 | Right to appeal petition.
Discharge Plan DP-1170 | Transfer of ownership notification.
Discharge Plan DP-1170 | Application for renewal submittal.
Landfill Post Closure Care Plan | Inspections and maintenance reports.
Landfill Post Closure Care Plan | Methane and groundwater monitoring data reports. .
Landfill Post Closure Care Plan | Plan revision submittal.
Landfill Post Closure Care Plan | Change of responsible parties notification.
Landfill Post Closure Care Plan | 30 year reporting requirement.
Landfill Groundwater Monitoring Plan | Plan revision submittal.
Landfill Groundwater Monitoring Plan | Request to modify sampling frequencies submittal.
Landfill Groundwater Monitoring Plan | Monitoring level exceedance notification.
Landfill Groundwater Monitoring Plan | Analytical data reports.
RCRA Operating Permit NM8800019434-1 | Revision/Modification notification.
RCRA Operating Permit NM8800019434-1 | Waste Analysis Plan modification submittal.
RCRA Operating Permit NM8800019434-1 | Submittal signatory requirements.
RCRA Operating Permit NM8800019434-1 | Requests for deadline extension.
RCRA Operating Permit NM8800019434-1 | Newly identified SWMUs notification.
RCRA Operating Permit NM8800019434-1 | Newly identified SWMUs notification plan.
RCRA Operating Permit NM8800019434-1 | Newly discovered release notification.
RCRA Operating Permit NM8800019434-1 | Newly discovered release investigation plan.
RCRA Operating Permit NM8800019434-1 | Transfer of ownership notification.
RCRA Operating Permit NM8800019434-1 | RFI/CMS and monthly progress reports.
RCRA Operating Permit NM8800019434-1 | Revised reports submittals.
RCRA Operating Permit NM8800019434-1 | Non EPA analytical method protocol submittal.
RCRA Operating Permit NM8800019434-1 | Off site access agreements submittal.
RCRA Operating Permit NM8800019434-1 | Monthly analytical data reports.
RCRA Operating Permit NM8800019434-1 | Project coordinator change notification.
RCRA Operating Permit NM8800019434-1 | Reports, plans, notifications, etc “in writing” requirement.
RCRA Operating Permit NM8800019434-1 | Lack of funds notification.
RCRA Operating Permit NM8800019434-1 | Written statement of dispute submittal.
RCRA Operating Permit NM8800019434-1 | “Force majeur” event notification.
RCRA Operating Permit NM8800019434-1 | Final RFI/CMS submittal.
RCRA Operating Permit NM8800019434-1 | Application for renewal submittal.
RCRA Operating Permit NM8800019434-1 | Duty to provide requested information. .
RCRA Operating Permit NM8800019434-1 | Annual ETU liner assessment report.
RCRA Operating Permit NM8800019434-1 | Notification of non compliance.
RCRA Operating Permit NM8800019434-1 | Notification and certification of closure and survey plat.
RCRA Operating Permit NM8800019434-1 | Emergency coordinator personnel change notification.
RCRA Operating Permit NM8800019434-1 | Contingency plan modification submittal.
RCRA Operating Permit NM8800019434-1 | Spill incident reports.
RCRA Operating Permit NM8800019434-1 | Spill response and corrective action reports.
RCRA Operating Permit NM8800019434-1 | Certifications of major repairs submittal and recordkeeping.
RCRA Operating Permit NM8800019434-1 | ETU secondary containment useful life extension request.
RCRA Operating Permit NM8800019434-1 | ETU steel structure useful life extension request.
RCRA Operating Permit NM8800019434-1 | ODU waste quantity exceedance notification.
RCRA Operating Permit NM8800019434-1 | ODU statistical results and constituent exceedance report.
RCRA Operating Permit NM8800019434-1 | FTU waste quantity exceedance notification.
Air Quality Permit # 629-M-1 | 40 CFR Notification Requirements.
Air Quality Permit # 629-M-1 | Revision/Modification Notice.
Air Quality Permit # 629-M-1 | Compliance Testing schedule notification.
Air Quality Permit # 629-M-1 | Written test protocol submittal.
Air Quality Permit # 629-M-1 | Compliance test report submittal.
Air Quality Permit # 629-M-1 | Quarterly reports submittal.
Air Quality Permit # 629-M-1 | Duty to provide requested information.
Air Quality Permit # 629-M-1 | Transfer of ownership notification.
Air Quality Permit # 629-M-1 | Modification notifications.
Air Quality Permit # 629-M-1 | Change of operator notification.
Air Quality Permit # 629-M-1 | Right to appeal notification.
Air Quality Permit # 629-M-1 | Certifications of major repairs submittals and recordkeeping.
Air Quality Permit # 629-M-1 | ETU secondary containment useful life extension request.
Air Quality Permit # 629-M-1 | ETU steel structure useful life extension request.
Air Quality Permit # 629-M-1 | ODU waste quantity exceedance notification.
Air Quality Permit # 629-M-1 | ODU statistical results and constituent exceedance report.
Air Quality Permit # 629-M-1 | FTU waste quantity exceedance notification.
Air Quality Permit # 629 M-3 | 40 CFR part 60 notification requirements.
Air Quality Permit # 629 M-3 | Revision/Modification notification.
Air Quality Permit # 629 M-3 | Compliance Testing schedule notification.
Air Quality Permit # 629 M-3 | Written test protocol submittal.
Air Quality Permit # 629 M-3 | Compliance test report submittal.
Air Quality Permit # 629 M-3 | Transfer of ownership notification.
Air Quality Permit # 629 M-3 | Duty to provide requested information.
Air Quality Permit # 629 M-3 | Change of operator notification.
Air Quality Permit # 629 M-3 | Quarterly reports submittal.
Air Quality Permit # 629 M-3 | Right to appeal petition.
Air Quality Permit #400 M-1 | Revision/Modification notification.
Air Quality Permit #400 M-1 | 40 CFR part 60 notification requirements.
Air Quality Permit #400 M-1 | Change of operator notification.
Air Quality Permit #400 M-1 | Compliance testing schedule notification.
Air Quality Permit #400 M-1 | Written test protocol submittal.
Air Quality Permit #400 M-1 | Transfer of ownership notification.
Air Quality Permit #400 M-1 | Duty to provide requested information.
Air Quality Permit #400 M-1 | Right to appeal petition.
Air Quality Permit #400 M-1 | Transfer of ownership notification.
Air Quality Permit #400 M-1 | Duty to provide requested information.
Air Quality Permit #400 M-1 | Right to appeal petition.
Surface Water | Best Management Practices Report.
Surface Water | Surface Water Management: Surface Water Worksheet

Appendix A

Project XL Electronic Signature Agreement

In accepting the digital certificate issued by the EPA approved Certificate Authority to digitally sign electronic documents submitted to the New Mexico Environmental Department (NMED) as part of the NASA White Sands Test Facility (NASA WSTF) Project XL pilot project, I, [name of digital signature holder],

(1) agree to protect the private key from use by anyone except me,

(2) understand and agree that I will be held as legally bound, obligated, or responsible by my use of my private key as I would be using my hand-written signature, and that legal action can be taken against me based on my use of my private key in submitting reports to NMED.

(3) agree never to delegate the use of my private key or make it available for use by anyone else;

(4) agree to report to NMED and the issuer of the certificate within twenty-four (24) hours of discovery, any evidence of the loss, theft, or other compromise of my private key;

(5) agree to report to NMED and the issuer of the certificate within twenty-four (24) hours of discovery, any evidence of discrepancy between a report I have signed and submitted and what NMED has received from me;

(6) agree to notify NMED and issuer of the certificate in writing if I cease to represent NASA WSTF as signatory of that organization's reports to NMED as soon as this change in relationship occurs.

NASA WSTF Designated Representative.

NMED Chief Information Officer.

[FR Doc. 01-27380 Filed 10-30-01; 8:45 am]

BILLING CODE 6560-50-P